DEPARTMENT OF DEFENSE

Department of the Navy

Board of Visitors, Marine Corps University; Notice of Federal Advisory Committee Meeting

AGENCY: Department of the Navy (DoN), Department of Defense (DoD).

ACTION: Notice of Federal Advisory Committee meeting.

SUMMARY: The DoD is publishing this notice to announce that the following Federal Advisory Committee meeting of the Board of Visitors, Marine Corps University (“the Board”) will take place.

DATES: The meeting is open to the public and will be held on Monday, March 20, 2023 from 9:30 a.m. to 4:30 p.m., and Tuesday, March 21, 2023 from 9:30 a.m. to 2:30 p.m. Eastern Time Zone.

ADDRESSES: The meeting will be held at Marine Corps National Museum of the Marine Corps, Marine Corps Heritage Foundation Conference Room in Triangle, Virginia. The address is: 1775 Semper Fidelis Way, Triangle, VA 22172.

FOR FURTHER INFORMATION CONTACT: Dr. Kim Florich, Director of Faculty Development and Outreach, Marine Corps University Board of Visitors, 2076 South Street, Quantico, Virginia 22134, telephone number 703-432-4682 or email kimberly.florich@usmcu.edu.

SUPPLEMENTARY INFORMATION: This meeting is being held under the provisions of the Federal Advisory Committee Act (FACA) (5 United States Code (U.S.C.), Appendix, as amended), the Government in the Sunshine Act (5 U.S.C. 552b, as amended), and the General Services Administration's Federal Advisory Committee Management Final Rule (41 Code of Federal Regulations (CFR) Part 102-3).

Due to circumstances beyond the control of the Designated Federal Officer, the Board of Visitors, Marine Corps University was unable to provide public notification required by 41 CFR 102-3.150(a) concerning its March 20, 2023 meeting. Accordingly, the Advisory Committee Management Officer for the Department of Defense, pursuant to 41 CFR 102-3.150(b), waives the 15-calendar day notification requirement.

Purpose of the Meeting: The mission of the Board is to meet all requirements of appropriate regional accrediting associations as well as provide the Secretary of Defense and the Secretary of the Navy independent advice and recommendations on matters pertaining to the U.S. Marine Corps professional military education programs; all aspects of the academic and administrative policies of the Marine Corps University (MCU); and higher educational standards and cost effective operations of the MCU. The Board reviews, develops, and provides recommendations on all aspects of the academic and administrative policies of the University; examines all aspects of professional military education operations; and provides such oversight and advice, as is necessary, to facilitate high educational standards and cost effective operations. The Board focuses primarily on the internal procedures of the Marine Corps University.

Agenda: The Board meeting will begin March 20, 2023 at 9:30 a.m., Eastern Time, with opening remarks by Dr. Rebecca Johnson, the Designated Federal Officer. The meeting will continue on March 21, 2023 beginning at 9:30 a.m. and ending at 2:30 p.m., Eastern Time. The Board will receive remarks from the Board Chair. The full schedule is as follows. Meeting Agenda with exact times to accompany this Notice.

March 20, 2023

• Admin Items/Photos: Travel claims/DTS/ITAs/Photos MCU Administrative Services/Academic Affairs Support

• Call to Order

Dr. Rebecca Johnson, Provost and Designated Federal Officer (DFO)

Dr. Jim Henderson, BOV Chair

BGen Maura Hennigan, President MCU

• Institutional and Programmatic Accreditation

Mr. Richard Jaques, Director, Academic Support Division/Deputy Vice President for Academic Affairs and Ms. Kate Kuehn, IRAP Director

• BREAK/Complete Photos/Giftshop

• MCU Budget Review Ms. Stacy Patzman, Comptroller

• No Host Lunch in Tun Tavern

• MCU Talent Mgt/Staffing Requirements (BOV Recommendation)

Mr. Keil Gentry, Vice-President Business Affairs

• Tour of NMMC Mr. Keil Gentry, VP Business Affairs

• Return to Meeting Room/Adjourn for the Day March 21, 2023

• Call to Order: Dr. Rebecca Johnson, Provost and DFO Dr. Jim Henderson, BOV Chair

• Update on Senior Enlisted Education: SgtMaj Clifford “Wayne” Wiggins, Director, College of Enlisted Military Education

• BREAK

• Naval Education Updates: Dr. Rebecca Johnson, Provost and DFO

• Lunch

• Futures Working Group Update: Dr. Kerry Fosher, Director Research, and Mr. Rob Peterson, Deputy VPOP

• Marine Corps University Foundation Overview Mr. Jon Sachrison/MCUF Chief Operating Officer

• BOV Recommendations and Fall 2023 Meeting Discussion

• Meeting Adjourned: Dr. Rebecca Johnson, Provost and DFO

If time permits, the Chair may receive comments from the public. The meeting will conclude with closing remarks by the Board Chair and Designated Federal Officer.

Meeting Accessibility: Pursuant to the FACA and 41 CFR 102-3.140, the meeting on Monday, March 20, 2023 and Tuesday, March 21, 2023 Eastern Time is open to the public via this Google Meet link: meet.google.com/odh-iiui-uyu.

Written Comments and Statements: Pursuant to 41 CFR 102-3.105(j) and 102-3.140 and section 10(a)(3) of the FACA, the public or interested organizations may submit written comments or statements to the Board in response to the stated agenda of the meeting or in regard to the Board's mission in general. Written comments or statements should be submitted to Dr. Kim Florich, the Designated Federal Officer, via electronic mail (the preferred mode of submission) at the address listed in the FOR FURTHER INFORMATION CONTACT section. Each page of the comment or statement must include the author's name, title or affiliation, address, and daytime phone number. The Designated Federal Officer must receive written comments or statements being submitted in response to the agenda set forth in this notice by March 14, 2023 to be considered by the Board. The Designated Federal Officer will review all timely submitted written comments or statements with the Board Chair, and ensure the comments are provided to all members of the Board before the meeting. Written comments or statements received after this date may not be provided to the Board until its next scheduled meeting. Pursuant to 41 CFR 102-3.140d, the Board is not obligated to allow any member of the public to speak or otherwise address the Board during the meeting. Members of the public will be permitted to make verbal comments during the meeting only at the time and in the manner described below. If a member of the public is interested in making a verbal comment at the meeting, that individual must submit a request, with a brief statement of the subject matter to be addressed by the comment, at least three (3) business days in advance to the Designated Federal Officer, via electronic mail (the preferred mode of submission) at the addresses listed in the FOR FURTHER INFORMATION CONTACT section. The Designated Federal Officer will log each request, in the order received, and in consultation with the Board Chair determine whether the subject matter of each comment is relevant to the Board's mission and/or the topics to be addressed in the public meeting. Members of the public who have requested to make a comment and whose comments have been deemed relevant under the process described above will be invited to speak in the order in which the Designated Federal Officer received their requests. The Board Chair may allot a specific amount of time for comments. Please note that all submitted comments and statements will be treated as public documents and will be made available for public inspection.

Dated: March 3, 2023.
A.R. Holt,
Lieutenant Commander, Judge Advocate General's Corps, U.S. Navy, Federal Register Liaison Officer.

[FR Doc. 2023-04789 Filed 3-8-23; 8:45 am]

BILLING CODE 3810-FF-P